DEPARTMENT OF COMMERCE

United States Patent and Trademark Office

[Docket No. PTO-P-2018-0046]

Patent Public Advisory Committee Public Hearing on the Proposed Patent Fee Schedule

AGENCY: United States Patent and Trademark Office, Department of Commerce.

ACTION: Notice of public hearing.

SUMMARY: Under Section 10 of the America Invents Act (AIA), the United States Patent and Trademark Office (USPTO) may set or adjust by rule any patent or trademark fee established, authorized, or charged, respectively.

The USPTO currently is planning to propose to set or adjust patent fees pursuant to its Section 10 fee setting authority. As part of the rulemaking process to set or adjust patent fees, the Patent Public Advisory Committee (PPAC) is required under Section 10 of the AIA to hold a public hearing about any proposed patent fees, and the USPTO is required to assist PPAC in carrying out that hearing. To that end, the USPTO will make its proposed patent fees available as set forth in the Supplementary Information section of this Notice before any PPAC hearing and will help the PPAC to notify the public about the hearing. Accordingly, this document announces the dates and logistics for the PPAC public hearing regarding USPTO proposed patent fees. Interested members of the public are invited to testify at the hearing and/or submit written comments about the proposed patent fees and the questions posed on PPAC's website about the proposed fees.

DATES: Public hearing: September 6, 2018.

Comments: For those wishing to submit written comments on the fee proposal that will be published by August 29, 2018, the deadline for receipt of those written comments is September 13, 2018.

ADDRESSES: Public hearing: The PPAC will hold a public hearing on September 6, 2018 beginning at 9:00 a.m., Eastern Standard Time (EST), and ending at 11:00 a.m., EST, at the USPTO, Madison Auditorium North, Concourse Level, Madison Building, 600 Dulany Street, Alexandria, Virginia 22314.

Written comments may be submitted by email addressed to fee.setting@uspto.gov or by postal mail to United States Patent and Trademark Office, Mail Stop CFO, P.O. Box 1450, Alexandria, VA 22313-1450, ATTN: Brendan Hourigan.

Although comments may be submitted by postal mail, the USPTO prefers to receive comments via email. Written comments should be identified in the subject line of the email or postal mailing as “Fee Setting.”

Because comments will be made available for public inspection, information that is not desired to be made public, such as an address or telephone number, should not be included in the comments.

Web cast: The public hearing will be available via Web cast. Information about the Web cast will be posted on the USPTO's internet website (www.uspto.gov/about-us/performance-and-planning/fee-setting-and-adjusting) before the public hearing.

Transcripts: Transcript of the hearing will be available on the USPTO internet website (www.uspto.gov/about-us/performance-and-planning/fee-setting-and-adjusting) shortly after the hearing.

FOR FURTHER INFORMATION CONTACT: Brendan Hourigan, Office of the Chief Financial Officer, by phone (571) 272-8966, or by email at brendan.hourigan@uspto.gov.

SUPPLEMENTARY INFORMATION: Effective September 16, 2011, with the passage of the AIA, the USPTO is authorized under Section 10 of the AIA to set or adjust by rule all patent and trademark fees established, authorized, or charged under Title 35 of the United States Code and the Trademark Act of 1946, respectively. Patent and trademark fees set or adjusted by rule under Section 10 of the AIA may only recover the aggregate estimated costs to the Office for processing, activities, services, and materials relating to patents and trademarks, respectively, including administrative costs of the Office with respect to each as the case may be. Congress set forth the process for the USPTO to follow in setting or adjusting patent and trademark fees by rule under Section 10 of the AIA, including additional procedural steps in the rulemaking proceeding for the issuance of regulations under this section. In particular, Congress requires the relevant advisory committee to hold a public hearing about the USPTO fee proposals after receiving them from the agency. Congress likewise requires the relevant advisory committee to prepare a written report on the proposed fees and the USPTO to consider the relevant advisory committee's report before finally setting or adjusting the fees.

Presently, the USPTO is planning to exercise its fee setting authority to set or adjust patent fees. As part of the rulemaking proceeding for the issuance of regulations under Section 10, the USPTO will publish a proposed patent fee schedule and related supplementary information for public viewing no later than August 29, 2018, on the USPTO internet website (address: www.uspto.gov/about-us/performance-and-planning/fee-setting-and-adjusting). In turn, the PPAC will hold a public hearing about the proposed patent fee schedule on the date indicated herein. The USPTO will assist the PPAC in holding the hearing by providing resources to organize the hearing and by notifying the public about the hearing, such as through this notice. Following the PPAC public hearing, the USPTO will publish a Notice of Proposed Rulemaking in the Federal Register, setting forth its proposed patent fees.

Requests to Present Oral Testimony

Interested members of the public are invited to testify at the PPAC hearing about the proposed patent fees and the questions posed on PPAC's website about the proposed fees. Those wishing to present oral testimony at the hearing must submit a request in writing no later than August 29, 2018. Requests to testify should indicate the following: (1) The name of the person wishing to testify; (2) the person's contact information (telephone number and email address); (3) the organization(s) the person represents, if any; and (4) an indication of the amount of time needed for the testimony. Requests to testify must be submitted by email to Jennifer Lo at Jennifer.Lo@uspto.gov. Speakers providing testimony at the hearing should submit a written copy of their testimony for inclusion in the record of the proceedings no later than September 13, 2018.

Based upon the requests received, an agenda for witness testimony will be sent to testifying requesters and posted on the USPTO internet website (address: www.uspto.gov/about-us/performance-and-planning/fee-setting-and-adjusting). If time permits, the PPAC may permit unscheduled testimony as well.

Dated: July 25, 2018.
Andrei Iancu,
Under Secretary of Commerce for Intellectual Property and Director of the United States Patent and Trademark Office.

[FR Doc. 2018-16432 Filed 7-31-18; 8:45 am]

BILLING CODE 3510-16-P